DEPARTMENT OF HOUSING AND URBAN DEVELOPMENT

[Docket No. FR-7066-N-13]

Notice of Proposed Information Collection for Public Comment: Mod Rehab Single Room Occupancy—Renewal Housing Assistance Payments & Rent Calculation Form; OMB Control No.: 2506-0216

AGENCY: Office of Community Planning and Development, HUD.

ACTION: Notice of proposed information collection.

SUMMARY: The proposed information collection requirement described below will be submitted to the Office of Management and Budget (OMB) for review, as required by the Paperwork Reduction Act. The Department is soliciting public comments on the subject proposal.

DATES: Comments due date: November 27, 2023.

ADDRESSES: Interested persons are invited to submit comments regarding this proposal. Written comments and recommendations for the proposed information collection can be submitted within 60 days of publication of this notice to www.reginfo.gov/public/do/PRAMain. Find this particular information collection by selecting “Currently under 60-day Review—Open for Public Comments” or by using the search function. Interested persons are also invited to submit comments regarding this proposal by name and/or OMB Control Number and can be sent to: Colette Pollard, Reports Management Officer, REE, Department of Housing and Urban Development, 451 7th Street SW, Room 8210, Washington, DC 20410-5000 or email at PaperworkReductionActOffice@hud.gov.

FOR FURTHER INFORMATION CONTACT: Norm Suchar, Director, Office of Special Needs Assistance Programs, Office of Community Planning and Development, Department of Housing and Urban Development, 451 7th Street SW, Room 7272, Washington, DC 20410; telephone (202) 708-5015 (This is not a toll-free number). HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from PaperworkReductionActOffice@hud.gov.

SUPPLEMENTARY INFORMATION: The Department will submit the proposed information collection to OMB for review, as required by the Paperwork Reduction Act of 1995 (44 U.S.C. chapter 35, as amended). This Notice is soliciting comments from members of the public and affected agencies concerning the proposed collection of information to: (1) evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Information Collection

OMB Approval Number: 2506-0216.

Type of Request: Extension of currently approved collection.

Form Number: N/A.

Description of the need for the information and proposed use: This submission is to request an extension of a currently approved collection for reporting burden associated with the Renewal Housing Assistance Payments (HAP) Contract and Rent Calculation Form for the renewal of expiring contracts under the Section 8 Moderate Rehabilitation Single Room Occupancy (SRO) Program. This submission is limited to the SRO renewal process under the Multifamily Assisted Housing Reform and Affordability Act of 1997 Act (MAHRA). The information to be collected will be used to facilitate the execution of a renewal HAP contract for expiring SRO projects set at the correct renewal rents as required by MAHRA. HUD will use this detailed information to determine the correct renewal rents as observed in the renewal HAP contract. The regulations covering Section 8 SRO renewals are contained in 24 CFR part 402.5 (b) (1-2).

Respondents: Public Housing Agencies (PHAs) administering the SRO HAP contracts and owner/sponsors of the SRO project.

Estimated Number of Respondents: 300.

Estimated Number of Responses: 300.

Frequency of Response: 1 time annually.

Average Hours per Response: 5.

Total Estimated Burdens: The total number of hours needed for all reporting is 1,500 hours.

Information collection | Number of respondents | Frequency of response | Responses per annum | Burden hour per response | Annual burden hours | Hourly cost per response | Annual cost
Renewal HAP Contract | 300 | 1 | 300 | 2 | 600 | 40.00 | 60,000
Rent Calculation Worksheet | 300 | 1 | 300 | 3 | 900 |  |
Submission Subtotal | 300 | 1 | 300 | 5 | 1,500 | 40.00 | 60,000
Total Grant Program Application Collection |  |  |  |  |  |  |
Total | 300 | 1 | 300 | 5 | 1,500 | 40.00 | 60,000

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Marion M. McFadden,
Principal Deputy Assistant Secretary for Community Planning and Development.

[FR Doc. 2023-20908 Filed 9-25-23; 8:45 am]

BILLING CODE 4210-67-P